ENVIRONMENTAL PROTECTION AGENCY

[EPA-HQ-OAR-2003-0152; FRL-9180-7]

Agency Information Collection Activities: Submission to OMB for Review and Approval; Comment Request; Compliance Assurance Monitoring Program (Renewal); EPA ICR No. 1663.07, OMB Control No. 2060-0376

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Comments must be submitted on or before August 26, 2010.

ADDRESSES: Submit your comments, referencing Docket ID No. EPA-HQ-OAR-2003-0152, to (1) EPA online using http://www.regulations.gov (our preferred method), by e-mail to a-and-r-docket@epa.gov, or by mail to: EPA Docket Center, Environmental Protection Agency, Air and Radiation Docket, Mailcode 22821T, 1200 Pennsylvania Avenue, NW., Washington, DC 20460, and (2) OMB by mail to: Office of Information and Regulatory Affairs, Office of Management and Budget (OMB), Attention: Desk Officer for EPA, 725 17th Street, NW., Washington, DC 20503.

FOR FURTHER INFORMATION CONTACT: Peter Westlin, Office of Air Quality Planning and Standards, Sector Policies and Programs Division (D243-05), Environmental Protection Agency, Research Triangle Park, NC 27711; telephone number: 919-541-1058; fax number: 919-541-1039; e-mail address: westlin.peter@epa.gov.

SUPPLEMENTARY INFORMATION: EPA has submitted the following ICR to OMB for review and approval according to the procedures prescribed in 5 CFR 1320.12. On February 24, 2010 (75 FR 8333), EPA sought comments on this ICR pursuant to 5 CFR 1320.8(d). EPA received no comments. Any additional comments on this ICR should be submitted to EPA and OMB within 30 days of this notice.

EPA has established a public docket for this ICR under Docket ID No. EPA-HQ-OAR-2003-0152, which is available for online viewing at http://www.regulations.gov, or person viewing at the Air and Radiation Docket in the EPA Docket Center (EPA/DC), EPA West, Room 3334, 1301 Constitution Avenue, NW., Washington, DC. The EPA/DC Public Reading Room is open from 8:30 a.m. to 4:30 p.m., Monday through Friday, excluding legal holidays. The telephone number for the Reading Room is 202-566-1744, and the telephone number for the Air and Radiation Docket is 202-566-1742.

Use EPA's electronic docket and comment system at http://www.regulations.gov, to submit or view public comments, access the index listing of the contents of the docket, and to access those documents in the public docket that are available electronically. Once in the system, select “docket search,” then key in the docket ID number identified above. Please note that EPA's policy is that public comments, whether submitted electronically or in paper, will be made available for public viewing at http://www.regulations.gov, as EPA receives them and without change, unless the comment contains copyrighted material, confidential business information (CBI), or other information whose public disclosure is restricted by statute. For further information about the electronic docket, go to http://www.regulations.gov.

Title: Compliance Assurance Monitoring Program (Renewal).

ICR Numbers: EPA ICR No. 1663.07, OMB Control No. 2060-0376.

ICR Status: This ICR is scheduled to expire on July 31, 2010. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Clean Air Act (the Act) contains several provisions directing EPA to require source owners to conduct monitoring to support certification as to their status of compliance with applicable requirements. These provisions are set forth in Section 504 (operating permits provisions) and Section 114 (enforcement provisions) of the Act. Section 504(b) directs EPA to implement monitoring and certification requirements through the operating permits program. This section allows EPA to prescribe by rule, methods and procedures for determining compliance recognizing that continuous emissions monitoring systems need not be required if other procedures or methods provide sufficiently reliable and timely information for determining compliance. Under section 504(c), each operating permit must “set forth inspection, entry, monitoring, compliance, certification, and reporting requirements to assure compliance with the permit terms and conditions.” Section 114(a)(3) requires EPA to promulgate rules for enhanced monitoring and compliance certifications. Section 114(a)(1) of the Act provides additional authority concerning monitoring, reporting, and recordkeeping requirements. This section provides the Administrator with the authority to require any owner or operator of a source to install and operate monitoring systems and to record the resulting monitoring data. EPA promulgated the Compliance Assurance Monitoring (CAM) rule, 40 CFR part 64, on October 22, 1997 (62 FR 54900) to implement these authorities.

In accordance with these provisions, the monitoring information source owners must submit must also be available to the public, except as entitled to protection from disclosure as allowed in section 114(c) of the Act.

Burden Statement: The annual public reporting and recordkeeping burden for this collection of information is estimated to average 134 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Owners and operators of title V sources with controlled pollutant specific emissions units that have a pre-control potential to emit major amounts of regulated air pollutants and permitting authorities

Estimated Number of Respondents: 3,174 owner/operators and 112 permitting authorities.

Frequency of Response: Incremental semi-annual and annual reports, plus every 5 years at permit renewal.

Estimated Total Annual Hour Burden: 7,453,581.

Estimated Total Annual Cost: $263,729,972, which includes annual labor costs for sources and permitting authorities and no capital or O&M costs.

Changes in the Estimate: There is an increase of 4,331,838 hours in the total estimated respondent annual burden currently identified in the OMB Inventory of Approved ICR Burdens. This increase reflects the significant increase in number of respondents resulting from the implementation of the rule through operating permit renewals.

Dated: July 21, 2010.
John Moses,
Director, Collection Strategies Division.

[FR Doc. 2010-18366 Filed 7-26-10; 8:45 am]

BILLING CODE 6560-50-P